DEPARTMENT OF STATE

[Public Notice: 12780]

Privacy Act of 1974; System of Records

AGENCY: Department of State.

ACTION: Rescindment of a system of records notice.

SUMMARY: Information Access Programs Records, State-35, which is being rescinded, captures information that helps the Department in the administration of its statutory responsibility for processing requests for access; amendments; appeals; special projects for Congress, the Government Accountability Office, and the Department of Justice in support of court orders and subpoenas; discovery, litigation support, and litigation pursuant to the Freedom of Information Act, the Privacy Act of 1974, Executive Order 13526 or a successor order on national security information, and Touhy regulations; and stores them in a secure repository that allows for search, retrieval, and view when necessary.

Additionally, the Department of State, by separate Federal Register notice, will also be rescinding the Final Rule associated with State-35.

DATES: The Department of State decommissioned the system maintaining Information Access Programs Records, State-35 on December 31, 2022.

ADDRESSES: Questions can be submitted by mail, email, or by calling Timothy Kootz, the Senior Agency Official for Privacy on (202) 485-2051. If by mail, please write to: Timothy Kootz, Senior Agency Official for Privacy; U.S Department of State; Shared Knowledge Services (A/SKS); Room 4534, 2201 C St. NW, Washington, DC 20520. If by email, please address the email to the Senior Agency Official for Privacy, Timothy Kootz, at Privacy@state.gov. Please write ” Information Access Programs Records, State-35” on the envelope or the subject line of your email.

FOR FURTHER INFORMATION CONTACT: Timothy Kootz, Senior Agency Official for Privacy; U.S. Department of State; Shared Knowledge Services (A/SKS); Room 4534, 2201 C St. NW, Washington, DC 20520 or by calling on (202) 485-2051.

SUPPLEMENTARY INFORMATION: Information Access Programs Records, State-35 must be rescinded because the characteristics of the system as it exists and is used in practice do not render the Information Access Programs Records system a system of records as that term is defined in 5 U.S.C. 552a(a)(5). The request letters and Department responses, copies of responsive records (if applicable) and any other correspondence, memoranda, interrogatories, and declarations related to the processing of information access requests from the initial receipt stage through to completion, amendment, appeal, and litigation are not “records” as defined by § 552a(a)(4), as they are not “about” the individuals incidentally mentioned in the files. The system in which the records are now maintained is also not a “system of records” as defined by § 552a(a)(5) because it (1) does not index files by personal identifier and (2) is not used to retrieve information by a personal identifier. Information about individuals that is incidentally collected in these records is included in other Department of State “systems of records.”

SYSTEM NAME AND NUMBER:

Information Access Programs Records, State-35.

HISTORY:

Information Access Programs Records, State-35, was previously published at 77 FR 48199.

Timothy Kootz,
Deputy Assistant Secretary, Shared Knowledge Services (A/SKS), U.S. Department of State.

[FR Doc. 2025-15189 Filed 8-8-25; 8:45 am]

BILLING CODE 4710-24-P